DEPARTMENT OF TRANSPORTATION

Office of the Secretary

49 CFR Part 40

[Docket OST-99-6578]

RIN 2105-AC49

Procedures for Transportation Workplace Drug and Alcohol Testing Programs

AGENCY: Office of the Secretary, DOT.

ACTION: Notice of public meetings on implementation of final rule.

SUMMARY: The U.S. Department of Transportation (DOT) is scheduling two one-day public meetings to provide interested parties a detailed overview of the Department's revised drug and alcohol testing procedures, published in the Federal Register on December 19, 2000 (65 FR 79462). The meetings are scheduled approximately 60 days after the publication of the rule to provide the public time to read and review the document. The intent of the meetings is to provide the transportation industry and other interested parties a more in depth overview of the changes in the new rule and to clarify to the attendees issues, which they may raise at the meetings.

DATES: The public meetings will be held on February 21 and 22, 2001, at 9:00 am-5:30 pm on both days.

ADDRESSES: The public meetings will be held at the Federal Aviation Administration (FAA) Auditorium, 3rd Floor Center, 800 Independence Avenue, SW., Washington, DC 20591. Meeting format and registration procedures are specified under supplementary information below.

FOR FURTHER INFORMATION CONTACT: For general meeting information and to register for one of the meetings, contact Minnie McDonald or Don Shatinsky at the U.S. Department of Transportation (DOT), Office of Drug and Alcohol Policy and Compliance, 400, 7th Street, SW., Room 10304, Washington, DC 20590, (202) 366-3784, fax (202) 399-3897, e-mail: minnie.mcdonald@ost.dot.gov.

SUPPLEMENTARY INFORMATION:

A. Purpose

The purpose of the meetings is to provide all segments of the transportation industry and the general public with a section-by-section overview of the drug and alcohol testing procedures required by the new rule. Some of the major changes in the rule will be addressed in detail. All information will be provided in presentation-style format by staff members from the DOT's Office of Drug and Alcohol Policy and Compliance and the Office of General Counsel. The presentations, however, are not to be construed as a training session meeting any of the training requirements required by the rule for various service agents.

B. Procedural Matters

The meetings are scheduled in Washington, DC at the FAA auditorium located at 800 Independence Avenue, SW., 3rd Floor Center, Washington, DC 20591. The first meeting will be held on February 21st. The second meeting, on February 22, will be a repetition of the previous day. Specifically, the same presentations will be repeated by the same staff members. Individuals should attend only one of the meetings, not both.

Both meetings will have limited seating capacity due to physical constraints of the facilities. Registered attendees will receive priority. Once the capacity of the meeting room is reached, there will be an “overflow” room available which will have audio and video connections to the auditorium. Once the auditorium and overflow room seating capacity for a session is reached, subsequent registrants will be moved to the other session, provided that session is not oversubscribed.

If seating space is not available on the date that is selected by the attendee, all efforts will be made to schedule for the alternate date. Attendees will be notified of the change by mail, fax, or e-mail. Notification will only be sent if it is not possible to meet the date selected by the attendee.

Out of town attendees must make their own arrangements for hotels and other lodging facilities. Lunch on each day will be the attendees' responsibility. An eating facility is available in the FAA building and there are other options available within a reasonable distance.

Attendees requiring sign language accommodation should notify DOT no later than February 9, 2001.

Based on the extensive material that needs to be presented and the time constraints, it is anticipated that questions will be limited. As a result, 3 by 5 cards will be available on which questions may be submitted. All questions, including those that are not answered because of a shortage of time, will be subsequently published on the DOT web site.

It is expected that attendees will be familiar with the new rule and will have a working knowledge of the regulatory requirements. Copies of the rule will not be available at these sessions. Attendees may download a copy from the DOT web site at http://www.dot.gov/ost/dapc/.

C. Registration Procedures

All attendees must register with DOT for these meetings. For all attendees, the following information is requested: name, name of alternate if the possibility exists that the primary registrant may not attend, full mailing address, company, agency, or association which you represent (if any), telephone number (in case the address is not legible or additional information is needed), e-mail address (optional), and which session you will be attending (i.e., February 21 or 22).

Registration will expedite the process of entry into the building through security. Additionally, it will ensure that there is sufficient seating space to accommodate all potential attendees. Because of the number of attendees that is projected, it is requested that individuals arrive at least 45 minutes prior to the start of the session to have sufficient time to meet security procedures.

For convenience to the public, a form has been developed to simplify registration for these meetings. A copy may be obtained from the DOT Fax-On-Demand system, by calling (800) 225-3784 and requesting document number 140; the registration form will be faxed to the requestor. Use of the form will expedite the process of registration. The form or all of the information requested above should be mailed, faxed, or e-mailed to reach DOT no later then February 16, 2001.

E. Tentative Agenda

The following is a draft agenda for both days.

8:45-9:00 Registration and entry through security

9:00-9:15 Opening Remarks—Administrative Announcements

9:15-9:30 Overview

9:30-10:30 Major Issues: Validity Testing, Stand Down, Public Interest Exclusion

10:30-10:50 Break

10:50-11:30 Employer Responsibilities

11:30-12:00 Alcohol testing

12:00-1:15 Lunch

1:15-1:45 Urine Collection and Laboratory Reporting

1:45-2:30 Medical Review Officer Responsibilities

2:30-2:50 Break

2:50-3:30 Substance Abuse Professional Responsibilities

3:30-4:00 Training

4:00-4:45 Service Agent Responsibilities

4:45-5:30 Questions and Answers

Issued this 17th day of January, 2001, at Washington, DC.
Mary Bernstein,
Director, Office of Drug and Alcohol Policy and Compliance, Department of Transportation.

[FR Doc. 01-2000 Filed 1-19-01; 10:20 am]

BILLING CODE 4910-62-P